DEPARTMENT OF TRANSPORTATION

National Highway Traffic Safety Administration

Reports, Forms and Record Keeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on August 16, 2001 [66 FR 43037-43039].

DATES: Comments must be submitted on or before February 6, 2002.

FOR FURTHER INFORMATION CONTACT: Barbara Williams at the National Highway Traffic Safety Administration, Office of Safety Performance Standards (NPS-01), 202-366-4327. 400 Seventh Street, SW, Room 5319, Washington, DC 20590.

SUPPLEMENTARY INFORMATION:

National Highway Traffic Safety Administration

Title: 49 CFR 552, Petitions for Rulemaking, Defects, and Noncompliance Orders.

OMB Number: 2127—0046.

Type of Request: Extension of a currently approved collection.

Abstract: 49 U.S.C. section 30162 specifies that any “interested person may file a petition with the Secretary of Transportation requesting the Secretary to begin a proceeding” to prescribe a motor vehicle safety standard under 49 U.S.C. chapter 301, or to decide whether to issue an order under 49 U.S.C. section 30118(b). 49 U.S.C. 30111 gives the Secretary authority to prescribe motor vehicle safety standards. 49 U.S.C. section 30118(b) gives the Secretary authority to issue an order to a manufacturer to notify vehicle or equipment owners, purchasers, and dealers of the defect or noncompliance and to remedy the defect or noncompliance.

Section 30162 further specifies that all petitions filed under its authority shall set forth the facts, which it is claimed establish that an order is necessary and briefly describe the order the Secretary should issue.

Affected Public: Business or other-for-profit.

Estimated Total Annual Burden: 20.

ADDRESSES: Send comments, within 30 days, to the Office of Information and Regulatory Affairs, Office of Management and Budget, 725-17th Street, NW, Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC, on December 31, 2001.
Delmas Johnson,
Acting Associate Administrator for Administration.

[FR Doc. 02-305 Filed 1-4-02; 8:45 am]

BILLING CODE 4910-59-P